DEPARTMENT OF AGRICULTURE

Forest Service

Dixie Resource Advisory Committee

AGENCY: Forest Service, USDA.

ACTION: Notice of meetings.

SUMMARY: The Dixie Resource Advisory Committee will meet in Cedar City, Utah. The committee is meeting as authorized under the Secure Rural Schools and Community Self-Determination Act (Pub. L. 110-343) and in compliance with the Federal Advisory Committee Act. The purpose of the two meetings are to conduct “welcomes” and introductions, review the Federal Advisory Committee Act requirements, brief participants on Payments to States legislative history, discuss the guidelines for Title II and Title III funding and proposals, discuss preliminary project ideas, and receive public comment on the meeting subjects and proceedings.

DATES: July 27, 2010, 9 a.m. & August 18, 2010, 9 a.m.

ADDRESSES: July 27, 2010 meeting will be held at Southern Utah University, Sharwan Smith Center (Cedar Breaks Room), 351 West University Blvd. August 18, 2010 meeting will be held at the Cedar City Heritage Center, 105 North 100 East, Room 1, Cedar City, Utah. Written comments should be sent to Dixie National Forest, 1789 North Wedgewood, Cedar City, UT 84701. Comments may also be sent via e-mail to gmerrill@fs.fed.us, or via facsimile to 435-865-3791.

All comments, including names and addresses when provided, are placed in the record and are available for public inspection and copying. The public may inspect comments received at Dixie National Forest, 1789 North Wedgewood, Cedar City, UT. Visitors are encouraged to call ahead to (435) 865-3730 to facilitate entry into the building.

FOR FURTHER INFORMATION CONTACT: Kenton Call, RAC Coordinator, Dixie National Forest, (435) 865-3730; e-mail: ckcall@fs.fed.us.

Individuals who use telecommunication devices for the deaf (TDD) may call the Federal Information Relay Service (FIRS) at 1-800-877-8339 between 8 a.m. and 8 p.m., Eastern Standard Time, Monday through Friday.

SUPPLEMENTARY INFORMATION: The meetings are open to the public. The following business will be conducted: (1) Welcome and Committee introductions; (2) Federal Advisory Committee Act overview and powerpoint; (3) Review of Payments to States legislative history and discussion of requirements related to Title II and Title III funding; (4) Discussion of Committee member roles and operational guidelines; (5) Discussion of preliminary projects; (6) Election of committee chairperson, (7) Review of next meeting purpose, location, and date; and (8) Receive public comment. Persons who wish to bring related matters to the attention of the Committee may file written statements with the Committee staff before or after the meeting. Public input sessions will be provided and individuals who made written requests by July 19, 2010 will have the opportunity to address the Committee at those sessions. As time allows, there may be additional opportunity for public comment.

Dated: July 6, 2010.
Maria T. Garcia,
Acting Forest Supervisor.

[FR Doc. 2010-17049 Filed 7-12-10; 8:45 am]

BILLING CODE 3410-11-P